DEPARTMENT OF LABOR

Employment Standards Administration; Wage and Hour Division

29 CFR Part 552

RIN 1215-AA82

Application of the Fair Labor Standards Act to Domestic Service

Correction

In proposed rule document 02-8382 beginning on page 16668 in the issue of Monday, April 8, 2002, make the following correction:

On page 16668, in the second column, under the heading “DATES”, “April 18, 2002” should read, “April 8, 2002”.

[FR Doc. C2-8382 Filed 4-10-02; 8:45 am]

BILLING CODE 1505-01-D